DEPARTMENT OF AGRICULTURE

Animal and Plant Health Inspection Service

[Docket No. 02-051-1]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of international standard-setting activities of the Office International des Epizooties, the Secretariat of the International Plant Protection Convention, and the North American Plant Protection Organization, and we are soliciting public comment on the standards to be considered.

ADDRESSES: You may submit comments by postal mail/commercial delivery or by e-mail. If you use postal mail/commercial delivery, please send four copies of your comment (an original and three copies) to: Docket No. 02-051-1, Regulatory Analysis and Development, PPD, APHIS, Station 3C71, 4700 River Road Unit 118, Riverdale, MD 20737-1238. Please state that your comment refers to Docket No. 02-051-1. If you use e-mail, address your comment to regulations@aphis.usda.gov. Your comment must be contained in the body of your message; do not send attached files. Please include your name and address in your message and “Docket No. 02-051-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For general information on the topics covered in this notice, contact Mr. John Greifer, Director, Trade Support Team, International Services, APHIS, Room 1132, South Building, 14th Street and Independence Avenue SW., Washington, DC 20250; (202) 720-7677. For specific information regarding standard-setting activities of the Office International des Epizooties, contact Dr. Michael David, Chief, Sanitary International Standards Team, VS, APHIS, 4700 River Road Unit 33, Riverdale, MD 20737-1231; (301) 734-8093. For specific information regarding the standard-setting activities of the International Plant Protection Convention or the North American Plant Protection Organization, contact Mr. Narcy Klag, Program Manager, Phytosanitary Issues Management, PPQ, APHIS, 4700 River Road Unit 60, Riverdale, MD 20737-1236; (301) 734-8469.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law by the President on December 8, 1994. The WTO Agreements, which established the WTO, entered into force with respect to the United States on January 1, 1995. The Uruguay Round Agreements Act amended title IV of the Trade Agreements Act of 1979 (19 U.S.C. 2531 et seq.). Section 491 of the Trade Agreement Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the Office International des Epizooties (OIE) regarding animal health and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. The United States Department of Agriculture's (USDA's) Food Safety and Inspection Service (FSIS) informs the public of Codex standard-setting activities and Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS publishes notice of OIE, IPPC, and NAPPO activities related to international standards and for representing the United States with respect to these standards.

Following are descriptions of the OIE, IPPC, and NAPPO organizations and the standard-setting agenda for each of these institutions. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 162 member nations, each of which is represented by a delegate who, in most cases, is the chief veterinary officer of that country. The WTO has recognized the OIE as the international forum for setting animal health standards, reporting global animal situations and disease status, and presenting guidelines and recommendations on sanitary measures relating to animal health.

The OIE facilitates intergovernmental cooperation to prevent the spread of contagious diseases in animals by sharing scientific research among its members. The major functions of the OIE are to collect and disseminate information on the distribution and occurrence of animal diseases and to ensure that scientifically justified standards govern international trade in animals and animal products. The OIE aims to achieve this through the development and revision of international standards for diagnostic tests, vaccines, and the safe international trade of animals and animal products.

The OIE provides annual reports on the global distribution of animal diseases, recognizes the free status of member countries for certain diseases, categorizes animal diseases with respect to their international significance, publishes bulletins on global disease status, and provides animal disease control guidelines to member countries.

The various OIE commissions and working groups undertake the initial analysis and preparation of draft standards, which are then circulated to member countries for consultation (review and comment). Draft standards are revised accordingly and then presented to the OIE General Session, which meets annually every May, for review and adoption. Adoption, as a general rule, is based on consensus of the OIE membership.

The next OIE General Session is scheduled for May 18-24, 2003, in Paris, France. The Associate Administrator for APHIS' Veterinary Services is the official U.S. delegate to the OIE. The Associate Administrator intends to participate in the proceedings and will discuss or comment on APHIS' position on any standard up for adoption. Information about current and past OIE draft Code chapters may be found at http://www.aphis.usda.gov/vs/ncie/oie/ or by contacting Dr. Michael David (see FOR FURTHER INFORMATION CONTACT above).

OIE Code Chapters Up for Adoption

Existing Code chapters that may be revised and new chapters that may be drafted in preparation for the next General Session in 2003 include the following:

1. Infectious Bursal Disease (IBD)

This is a disease of poultry. This existing chapter will be revised to incorporate contemporary scientific knowledge about IBD (e.g., new knowledge regarding surveillance for the disease, testing, etc.). These changes may affect current OIE export certification standards for products that may be affected with IBD.

2. Guidelines for Conducting a Risk Assessment on Bovine Spongiform Encephalopathy (BSE) in Cattle

This is intended to provide guidance on conducting a risk assessment that identifies all potential factors for BSE occurrence and their historic perspective in a nation's cattle herd. These factors include: the feeding of meat-and-bone meal or greaves of ruminant origin; the importation of meat-and-bone meal or greaves potentially contaminated with a transmissible spongiform encephalopathy (TSE) or feedstuffs containing either; importation of animals or embryos/oocytes potentially infected with a TSE; epidemiological situation concerning all animal TSEs in the country or zone; extent of knowledge of the population structure of cattle, sheep, and goats in the country or zone; and the origin of any unprocessed animal by-products, the parameters of the rendering processes and the methods of animal feed production.

3. Maedi-visna

This is a disease of sheep and goats. This would represent a new OIE Code chapter. The Chapter will provide recommendations for the trade of sheep and goats and their products as it pertains to Maedi-visna.

4. Traceability

This represents a new undertaking for OIE in the area of animal health and is intended to provide guidance on traceability, or the tracking of animals and animal products throughout their production system.

5. Guidelines on the Judgment of Equivalence

This represents a new undertaking for OIE and is intended to provide guidance on making equivalency determinations in the area of animal health.

As a matter of process, these chapters are drafted (or revised) by ad hoc groups composed of technical experts nominated by the OIE Code Commission by virtue of their subject-area expertise (not their national affiliation). Once the ad hoc expert group completes its task of drafting a new chapter or revising an existing one, the chapter is then distributed to member countries for review and comment. Historically, the OIE has distributed the proposed or revised Code chapters to its member countries by late October of each year. However, this year the OIE will try to provide proposed chapters by early September to allow Member States more time for comment. The draft standard is revised by the OIE Code Commission on the basis of relevant scientific comments received from member countries.

The United States (i.e., USDA/APHIS) intends to review and, where appropriate, comment on all draft chapter revisions once it receives them from the OIE. USDA/APHIS intends to distribute these drafts to the U.S. livestock industry, veterinary experts in various U.S. academic institutions, and other interested persons for review and comment. The drafts will be posted on the Internet at http://www.aphis.usda.gov/vs/ncie/oie/. Hence, U.S. comments submitted to the OIE will be based on APHIS' analysis and relevant scientific information received from various domestic commenters. Additional information regarding these draft standards may be obtained by contacting Dr. Michael David (see FOR FURTHER INFORMATION CONTACT above).

Generally, if a country has concerns with a particular draft standard, and supports those concerns with sound technical information, the OIE Code Commission will revise that standard accordingly and present the revised draft for adoption at the General Session in May. In the event that a country's concerns regarding a draft standard are not taken into account, that country may refuse to support the standard when it comes up for adoption at the General Session. However, each member country is obligated to review, comment, and make decisions regarding the adoption of standards strictly on their scientific merits.

OIE Future Work Program

In the next few years, the OIE Code Commission is expected to address the following issues or establish ad hoc groups of experts to update and/or develop the standards for the following issues:

1. Animal Welfare

This represents an effort to develop principles that can be applied to different animal welfare standards, such as housing, transportation, and slaughter. The United States will consider its position on this new standard after it reviews a prepared draft.

2. Food Safety

This represents an effort to reduce the public health risks in food from microbiological, chemical, and other risk factors at the farm level and prior to slaughter and would be accomplished by working more closely (strengthening relationships) with the relevant international organizations such as Codex, FAO, and WHO. The United States will consider its position on this new standard after it reviews a prepared draft.

3. Avian Influenza, Foot and Mouth Disease, and BSE

These represent revisions to existing chapters. The United States will consider its position on these new standards after it reviews a prepared draft.

4. Diseases of Bees

This represents a revision to or updating of an existing OIE Code chapter. This chapter, which addresses most diseases of honeybees, including mites, will be revised to incorporate changes in scientific knowledge about various honeybee diseases. This chapter will continue to provide guidance for certifying honeybee packages and queen bees for export purposes. The United States will consider its position on this new standard after it reviews a prepared draft.

5. BSE in Small Ruminants

This would be a new OIE Code chapter intended to provide guidance for export certification of sheep and goats and their products. The United States will consider its position on this new standard after it reviews a prepared draft.

Other OIE Topics

Every year at the General Session, two technical items are presented. For the May 2003 General Session, the following technical items will be presented:

1. The socioeconomic impact of animal diseases.

2. Regionalization as an instrument for preventing the propagation of diseases, including those of camelids.

The information in this notice includes all the information currently available to us on OIE standards currently under development or consideration. Information on OIE standards is available on the Internet at http://www.oie.int. Further, a formal agenda for the next General Session will be available to member countries in February 2003, and copies will be available to the public once the agenda is published. For the most current information on meeting times, working groups, and/or meeting agendas, including information on official U.S. participation in OIE activities, and U.S. positions on standards being considered, contact Dr. Michael David (see FOR FURTHER INFORMATION CONTACT above). Those wishing to provide comments on any areas of work under the OIE may do so at any time by responding to this notice (see ADDRESSES above) or by providing comments through Dr. David.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC.

The IPPC is placed under the authority of the FAO, and the members of the Secretariat of the IPPC are appointed by the FAO. The IPPC is implemented by national plant protection organizations in cooperation with regional plant protection organizations, the Interim Commission on Phytosanitary Measures (ICPM), and the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC will enter into force once two-thirds of the current contracting parties notify the Director General of FAO of their acceptance of the amendment. At this date, 39 of the required 72 member countries have deposited their official letters of acceptance. The U.S. Senate gave its advice and consent to acceptance of the newly revised IPPC on October 18, 2000. The President submitted the official letter of acceptance to the FAO Director General on October 4, 2001.

The IPPC has been, and continues to be, administered at the national level by plant quarantine officials whose primary objective is to safeguard plant resources from injurious pests. In the United States, the national plant protection organization is APHIS' Plant Protection and Quarantine (PPQ) program. The steps for developing a standard under the revised IPPC are described below.

Step 1

Proposals for a new international standard for phytosanitary measures (ISPM) or for the review or revision of an existing ISPM are submitted to the Secretariat of the IPPC in the form of a discussion paper accompanied by a topic or draft standard. Drafts can be submitted by individual countries, but are more commonly submitted by regional plant protection organizations (RPPO's). Alternately, the Secretariat can propose a new standard or amendments to existing standards.

Step 2

A summary of proposals is submitted by the Secretariat to the ICPM. The ICPM identifies the topics and priorities for standard setting from among the proposals submitted to the Secretariat and others that may be raised by the ICPM.

Step 3

Specifications for the standards identified as priorities by the ICPM are drafted by the Secretariat. The draft specifications are submitted to the Standards Committee for approval/amendment and are subsequently made available to members and RPPO's for comment (60 days). Comments are submitted in writing to the Secretariat. Taking into account the comments, the Standards Committee finalizes the specifications.

Step 4

The standard is drafted or revised in accordance with the specifications by a working group designated by the Standards Committee. The resulting draft standard is submitted to the Standards Committee for review.

Step 5

Draft standards approved by the Standards Committee are distributed to members by the Secretariat and RPPO's for consultation (120 days). Comments are submitted in writing to the Secretariat. Where appropriate, the Standards Committee may establish open-ended discussion groups as forums for further comment. The Secretariat summarizes the comments and submits them to the Standards Committee.

Step 6

Taking into account the comments, the Secretariat, in cooperation with the Standards Committee, revises the draft standard. The Standards Committee submits the final version to the ICPM for adoption.

Step 7

The ISPM is established through formal adoption by the ICPM according to Rule X of the Rules of Procedure of the ICPM.

Step 8

Review of the ISPM is completed by the specified date or such other date as may be agreed upon by the ICPM.

Each member country is represented on the ICPM by a single delegate. Although experts and advisers may accompany the delegate to meetings of the ICPM, only the delegate (or an authorized alternate) may represent each member country in considering a standard up for approval. Parties involved in a vote by the ICPM are to make every effort to reach agreement on all matters by consensus. Only after all efforts to reach a consensus have been exhausted may a decision on a standard be passed by a vote of two-thirds of delegates present and voting.

Technical experts from the United States have participated directly in working groups and indirectly as reviewers of all IPPC draft standards. In addition, documents and positions developed by APHIS and NAPPO have served as the basis for many of the standards adopted to date. This notice describes each of the IPPC standards currently under consideration or up for adoption. The full text of each standard will be available on the APHIS Internet Web site at http://www.aphis.usda.gov/ppq/pim/standards/. Interested individuals may review the standards posted on this website and submit comments via the website.

The next ICPM meeting is scheduled for April 7-11, 2003, at FAO Headquarters in Rome, Italy. The Deputy Administrator for APHIS' PPQ programs is the U.S. delegate to the ICPM. The Deputy Administrator intends to participate in the proceedings and will discuss or comment on APHIS' position on any standard up for adoption. The provisional agenda for the meeting is as follows:

Provisional Agenda for the Fourth Interim Commission on Phytosanitary Measures

1. Opening of the session.

2. Adoption of the agenda.

3. Report by the chairperson.

4. Report by the Secretariat.

5. Adoption of international standards (see section below entitled “IPPC Standards Up for Adoption in 2003” for details).

6. Items arising from the Third Session of the ICPM (see section below entitled “New Standard Setting Initiatives” for details).

7. Work program for harmonization.

8. Status of the 1997 revised IPPC.

9. Other business.

10. Date and venue of the next meeting.

11. Adoption of the report.

IPPC Standards Up for Adoption in 2003

It is expected that the following standards will be sufficiently developed to be considered by the ICPM for adoption at its April 2003 meeting. The United States, represented by APHIS' Deputy Administrator for PPQ, will participate in the consideration of these standards. The U.S. position on each of these issues will be developed prior to the ICPM session and will be based on APHIS' analysis, information from other U.S. Government agencies, and relevant scientific information from interested stakeholders. The standards that are most likely to be considered for adoption include:

1. Environmental Impact of Quarantine Pests

This work will supplement and strengthen the existing standard on “Pest Risk Analysis for Quarantine Pests” by providing detailed guidelines for evaluating the environmental impacts of quarantine pests, including quarantine pests that are invasive. This standard was reviewed and edited by the Standards Panel and was entered into the country consultation phase during the early part of 2002. The Standards Panel will review comments from consultation and prepare the final draft. The expectation is that the standard will be completed and ready for ICPM approval in 2003. The United States intends to support adoption of this draft standard, assuming it is ready for such consideration.

2. Economic Importance

The ICPM (at its third meeting) agreed on the need to develop guidelines to clarify the meaning and scope of “economic importance”—a term found in the pest risk analysis (PRA) standard, in the definition of quarantine pest, and other IPPC documents. The goal is to ensure a common understanding that “economic importance” of pest introduction may include monetary and/or non-monetary impacts (e.g., pest impacts on wild flora or the environment which may be difficult to express in dollar terms). Such guidelines will help clarify the scope of the IPPC as covering not only agriculturally significant pests, but also pests which may be harmful to wild flora or non-cultivated systems. This standard was reviewed and edited by the Standards Panel and was entered into the country consultation phase during the early part of 2002. The Standards Panel will review comments from consultation and prepare the final draft. The goal is to have a guideline prepared for ICPM approval in 2003. The United States intends to support adoption of this draft standard assuming it is ready for such consideration.

3. Guidelines for the Use of Irradiation as a Phytosanitary Measure

This standard provides technical guidance for the evaluation, adoption, and use of irradiation as a phytosanitary treatment. It is designed to encourage consistency by providing essential information concerning the technical and operational aspects of using irradiation as a treatment for plant pests. This standard is important as it provides an alternative to the use of methyl bromide as a treatment for quarantine pests. This standard was reviewed and edited by the Standards Panel and was entered into the country consultation phase during the early part of 2002. The Standards Panel will review comments from consultation and prepare the final draft. The goal is to have a guideline prepared for ICPM approval in 2003. The United States intends to support adoption of this draft standard assuming it is ready for such consideration.

New Standard-Setting Initiatives, Including Those in Development

A number of expert working group meetings or other technical consultations will take place during 2002 and early 2003 on the topics listed below. These standard-setting initiatives are not expected to be completed prior to March 2003 and, therefore, will not be ready for adoption at the 2003 ICPM session. Nonetheless, APHIS intends to participate actively and fully in each of these working groups. The U.S. position on each of the topics to be addressed by these various working groups will be developed prior to these working group meetings and will be based on APHIS' technical analysis, information from other U.S. Government agencies, and relevant scientific information from interested stakeholders.

1. Living Modified Organisms (LMOs) Standard

At its third annual meeting in 2001, the ICPM agreed on the need to develop a phytosanitary standard for assessing potential pest risks associated with LMOs. The goal of this standard is to provide clear and comprehensive guidance on the conduct of PRA procedures as regards the phytosanitary risks that may be presented by LMOs. Accordingly, this standard will take into account: Existing PRA procedures and standards (IPPC and others that may be relevant); relevant hazards and methods for the evaluation of the potential phytosanitary risks presented by LMOs; and, the goal of ensuring a PRA procedure for LMOs that is consistent with relevant aspects of the Cartagena Protocol. The target date for completion of the LMO standard is 2004.

2. Efficacy of Phytosanitary Measures

ICPM consensus exists on the need to develop a standard for evaluating the efficacy of phytosanitary measures. The goal is to ensure the development of guidelines for evaluating phytosanitary measures on a consistent, rigorous, and sound basis and providing IPPC recognition of those which meet established criteria. This standard will be critical for supporting future commodity specific standards (e.g. hot water treatment for fruit flies) as well as the development of IPPC guidelines for making “equivalency” determinations. Work on this standard will begin in 2002 with the goal of having the standard ready for ICPM approval in 2004.

3. Guidelines for Equivalence

It is recognized that different phytosanitary measures can provide equivalent plant health protection for the purpose of international trade. This standard will provide guidelines for assessing and comparing different phytosanitary measures in order to make equivalency determinations. This standard will be directly linked to the draft standards work, currently underway, related to “efficacy of measures.” ICPM members agreed on the need to establish criteria and guidance for evaluating the efficacy of measures (i.e., treatments, systems, etc.) prior to developing guidelines for equivalence.

4. Guidelines for Surveillance for Specific Pests (Citrus Canker)

This specific surveillance standard will describe the components of survey and monitoring systems for the purpose of detecting citrus canker and generating the necessary data for use in pest risk analyses and the establishment of pest-free areas. During the course of work on this particular standard, there have emerged substantial differences of opinion among experts regarding several aspects of the standard, particularly the appropriate statistical levels for survey. Work will continue on this draft standard in 2002 with the goal of having it ready for ICPM approval in 2004.

5. Pest Risk Analysis for Regulated Non-Quarantine Pests

Certain pests that are not quarantine pests may be subject to phytosanitary regulations and procedures because their presence above a specific level results in economically unacceptable impacts associated with the intended use of the plants. Under the IPPC, such pests are referred to as “regulated non-quarantine pests.” The classification of a pest as a regulated non-quarantine pest and any restrictions placed on the importation of the plant species with which it is associated must be justified by pest risk analysis. This standard will provide guidance for conducting an appropriate PRA necessary to demonstrate that importation of a particular plant for propagation may result in an unacceptable impact and to guide subsequent risk management decisions. The goal is to have this standard ready for ICPM approval in 2004.

6. Guidelines for an Import Regulatory System

A first draft was considered by an IPPC working group in 1997. Since then the draft has undergone several revisions. In November 2001, the IPPC Interim Standards Committee recommended that a small working group be organized to consider the latest draft. The primary issue is the level of detail that the standard will contain as regards structural and operational aspects of import regulatory systems. The group met in February 2002 and developed a revised edition. This draft will be reviewed by the Standards Panel in November 2002.

7. Inspection Methodology

The first draft of the standard on inspection methodology was prepared in 1995. Since then the draft standard has undergone several revisions and has been distributed to members for their formal review (1999). An expert group may be convened in the near future to consider the draft standard in light of Members' comments.

8. Pest Listing

The IPPC requires contracting parties to establish and update lists of regulated pests for phytosanitary certification purposes. A working group is drafting standardized guidelines for meeting these obligations. These draft guidelines will describe lists of regulated pests, the purpose of the guidelines, and their relationship to phytosanitary certification procedures. There were some serious reservations by several countries after country consultations, however, these concerns have now been resolved with those countries. Work will continue on this draft standard in 2002 with the goal of having it ready for ICPM approval in 2004.

For more detailed information on the above topics, which will be addressed by various working groups established by the ICPM, contact Mr. Narcy Klag (see FOR FURTHER INFORMATION CONTACT above).

Also, APHIS posts draft standards on the Internet (http://www.aphis.usda.gov/ppq/pim/standards) as they become available and provides information on when comments on standards are due. Additional information on IPPC standards is available on the FAO's Web site at http://www.ippc.int. For the most current information on official U.S. participation in IPPC activities, including U.S. positions on standards being considered, contact Mr. Narcy Klag (see FOR FURTHER INFORMATION CONTACT above). Those wishing to provide comments on any of the areas of work being undertaken by the IPPC may do so at any time by responding to this notice (see ADDRESSES above) or by providing comments through Mr. Klag.

NAPPO Standard-Setting Activities

NAPPO, a regional plant protection organization created in 1976 under the IPPC, coordinates the efforts among Canada, the United States, and Mexico to protect their plant resources from the entry, establishment, and spread of harmful plant pests, while facilitating intra- and inter-regional trade.

NAPPO conducts its business through panels and annual meetings held among the three member countries. The NAPPO Executive Committee charges individual panels with the responsibility for drawing up proposals for NAPPO positions, policies, and standards. These panels are made up of representatives from each member country who have scientific expertise related to the policy or standard being considered.

Proposals drawn up by the individual panels are circulated for review to government and industry officials in Canada, Mexico, and the United States, who may suggest revisions. In the United States, draft standards are circulated to industry, States, and various Government agencies for consideration and comment. The draft standards are posted on the Internet at http://www.aphis.usda.gov/ppq/standards; interested persons may submit comments via that Web site. Once revisions are made, the proposal is sent to the NAPPO working group and the NAPPO standards panel for technical reviews and then to the Executive Committee for final approval, which is granted by consensus.

The annual NAPPO meeting is scheduled for October 21-25, 2002, in Oaxaca, Mexico. The NAPPO Executive Committee meeting will take place on October 20, and a special session will be held on October 21 to solicit the input of industry groups so that suggestions can be incorporated into the NAPPO work plan. The Deputy Administrator for APHIS' PPQ programs is a member of the NAPPO Executive Committee. The Deputy Administrator intends to participate in the proceedings and will discuss or comment on APHIS' position on any standard up for adoption or any proposals to develop new standards.

The work plan for 2002 was established after the October 2001 Annual Meeting in San Diego, CA. The Deputy Administrator for PPQ participated in establishing this NAPPO work plan (see panel assignments below).

Below is a summary of current panel assignments as they relate to the ongoing development of NAPPO standards. USDA/APHIS intends to participate actively and fully in the work of each of these panels. The U.S. position on each topic will be guided and informed by the best scientific information available on each of these topics. For each of the following panels, the United States will consider its position on any draft standard after it reviews a prepared draft. Information regarding the following NAPPO panel topics, assignments, and activities, and updates on meeting times and locations, may be obtained from the NAPPO home page at http://www.nappo.org or by contacting Mr. Narcy Klag (see FOR FURTHER INFORMATION CONTACT above).

1. Accreditation Panel (Inspector Accreditation)

This panel will work towards facilitating the proper implementation of the standard “Accreditation of Individuals to Sign Federal Phytosanitary Certificates.” A review of the U.S. system was conducted in June 2001 and a review of the Canadian system was conducted in early 2002. A review of Mexico's system will follow. A written report will be provided to the Executive Committee.

2. Biological Control Panel

This panel will work on developing a standard for biological control facilities.

3. Biotechnology Panel

This panel will continue to develop a NAPPO standard for the review of products of biotechnology that focuses on the assessment of the potential to present a plant pest risk. Modules for unconfined field release and importation of transgenic material for uses other than planting will be drafted.

4. Citrus Panel

The panel will continue to work on the standard for the entry of citrus propagative material into NAPPO member countries.

5. Forestry Panel

The panel will work on trying to harmonize, between NAPPO countries, the implementation of the international standard for wood packaging material.

6. Fruit Panel

The panel will finalize the standard “Verification and Maintenance of Fruit Fly-Free Areas.” Approval of this standard by the NAPPO Executive Committee is expected this year.

7. Fruit Tree Panel

The panel will finalize the standard “NAPPO Guidelines for the Safe Movement of Plum Pox Host Material.”

8. Grapevine Panel

This panel will finalize the NAPPO grapevine standard and prepare it for approval by the NAPPO Executive Committee.

9. Pest Risk Analysis Panel

This panel will coordinate NAPPO input on the development of the IPPC standard entitled “Pest Risk Analysis for Regulated Non-Quarantine Pests.”

10. Phytosanitary Alert System

This panel will finalize the NAPPO standard on pest reporting. The standard should be approved by the Executive Committee this year.

11. Potato Panel

This panel will review and revise the NAPPO Potato Standard pest list and then conduct in-country consultations regarding pest status.

12. Potato Technical Advisory Group

This ad-hoc panel will prepare the minituber production guidelines for North America for country consultations.

13. Standards Panel

This panel is responsible for the following: Providing updates on standards for the NAPPO newsletter; coordinating the review of new and amended NAPPO standards and ensuring that comments received during the country consultation phase are incorporated as appropriate; organizing conference calls and preparing NAPPO discussion documents for possible use at the IPPC; and promoting implementation of recently adopted IPPC standards. The panel will finalize a NAPPO standard for implementing the recently adopted IPPC standard “Notification of Interceptions and Non-Compliance” and will finalize a standard for developing bilateral workplans.

The PPQ Deputy Administrator, as the official U.S. delegate to NAPPO, intends to participate in the adoption of those regional plant health standards, including the work described above, once they are completed and ready for such consideration.

The information in this notice includes all the information available to us on NAPPO standards currently under development or consideration. For updates on meeting times and for information on the working panels that may become available following publication of this notice, check the NAPPO Web page on the Internet at http://www.nappo.org or contact Mr. Narcy Klag (see FOR FURTHER INFORMATION CONTACT above). Information on official U.S. participation in NAPPO activities, including U.S. positions on standards being considered, may also be obtained from Mr. Klag. Those wishing to provide comments on any of the topics being addressed by any of the NAPPO panels may do so at any time by responding to this notice (see ADDRESSES above) or by transmitting comments through Mr. Klag.

Done in Washington, DC, this 19th day of August, 2002.
Peter Fernandez,
Acting Administrator, Animal and Plant Health Inspection Service.

[FR Doc. 02-21539 Filed 8-22-02; 8:45 am]

BILLING CODE 3410-34-P